CONSUMER PRODUCT SAFETY COMMISSION

Notice of Telephonic Prehearing Conference; Correction

AGENCY: U.S. Consumer Product Safety Commission.

Correction

Federal Register Citation of Previous Announcement:

Vol. 77, No. 179, Friday, September 14, 2012, page 56814.

Notice: Notice of Telephonic Prehearing Conference, CPSC Docket 12-1.

Correction: The name of the docket and respondent is incorrect. The correct name of the respondent is Maxfield and Oberton Holdings, LLC.

Contact Person for Additional Information: Todd A. Stevenson, Office of the Secretary, 4330 East West Highway, Bethesda, MD 20814 (301) 504-7923.

Dated: September 14, 2012.
Todd A. Stevenson,
Secretary.

[FR Doc. 2012-23070 Filed 9-18-12; 8:45 am]

BILLING CODE 6355-01-P